DEPARTMENT OF STATE

[Public Notice: 8950]

Notice of Information Collection Under OMB Emergency Review: Affidavit of Relationship (AOR) for Minors From Honduras, El Salvador and Guatemala

ACTION: Notice of request for emergency OMB approval and public comment.

SUMMARY: The Department of State has submitted the information collection request described below to the Office of Management and Budget (OMB) for review and approval in accordance with the emergency review procedures of the Paperwork Reduction Act of 1995 (5 CFR 1320.13). The purpose of this notice is to allow for public comment from all interested individuals and organizations. Emergency review and approval of this collection has been requested from OMB by immediately. If granted, the emergency approval is only valid for 180 days. The Department plans to follow this emergency request with a submission for a 3 year approval through OMB's normal PRA clearance process (5 CFR 1320.10).

ADDRESSES: Direct any comments on this emergency request to the Department of State Desk Officer in the Office of Information and Regulatory Affairs at the Office of Management and Budget (OMB) and to PRM/Admissions.

All comments must be received by 10 days from publication of this Notice.

You may submit comments to OMB by the following methods:

• Email: oira_submission@omb.eop.gov. You must include the DS form number, information collection title, and OMB control number in the subject line of your message.

• Fax: 202-395-5806. Attention: Desk Officer for Department of State.

You may submit comments to PRM/Admissions by the following methods:

• Web: Persons with access to the Internet may use the Federal Docket Management System (FDMS) to comment on this notice by going to www.Regulations.gov. You can search for the document by entering “Public Notice 8950” in the Search bar. If necessary, use the Narrow by Agency filter option on the Results page.

• Email: PRM/Admissions (Sean Hantak: hantaksr@state.gov). You must include Emergency Submission Comment on “information collection title” in the subject line of your message.

• Regular Mail: Send written comments to PRM/Admissions, 2901 C Street NW., Room 6825, Washington DC 20520.

You must include the DS form number (if applicable), information collection title, and OMB control number (if any) in any correspondence.

FOR FURTHER INFORMATION CONTACT: Direct requests for additional information regarding the collection listed in this notice, including requests for copies of the proposed collection instrument and supporting documents to Sean Hantak, PRM/Admissions, 2901 C Street NW., Rm 6825, Washington DC 20520 who may be reached at hantaksr@state.gov.

SUPPLEMENTARY INFORMATION:

Title of Information Collection: Affidavit of Relationship (AOR) for Minors from Honduras, El Salvador and Guatemala.

• OMB Control Number: “None”.

• Type of Request: Emergency Review.

• Originating Office: PRM/A.

• Form Number: DS-7699.

• Respondents: Anchor parents in the U.S. with children in Honduras, El Salvador and Guatemala.

• Estimated Number of Respondents: 2,500.

• Estimated Number of Responses: 2,500.

• Average Time per Response: 60 minutes.

• Total Estimated Burden Time: 2,500 hours.

• Frequency: One time per form.

• Obligation to respond: Required to Obtain or Retain a Benefit.

We are soliciting public comments to permit the Department to:

• Evaluate whether the proposed information collection is necessary for the proper functions of the Department.

• Evaluate the accuracy of our estimate of the time and cost burden of this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review

Abstract of proposed collection: The Department of State Bureau of Population, Refugees, and Migration (PRM) is responsible for coordinating and managing the U.S. Refugee Admissions Program (USRAP). PRM coordinates within the Department of State, as well as with the Department of Homeland Security's U.S. Citizenship and Immigration Services (DHS/USCIS), in carrying out this responsibility. A critical part of the State Department's responsibility is determining which individuals, from among millions of refugees worldwide, will have access to U.S. resettlement consideration. PRM and DHS/USCIS are now assisting with the preparation of a White House directive to initiate an in-country program to provide a means for certain persons in the United States who are lawfully present (“anchor parents”) to claim a relationship with child(ren) in Honduras, El Salvador, and Guatemala and to assist the U.S. Department of State in determining whether those child(ren) are qualified to apply for access to the USRAP for family reunification purposes. This form also assists DHS/USCIS to verify parent-child relationships during refugee case adjudication. The main purpose of the DS-7699 is for the anchor parent to provide biographical information about his/her child(ren) in the qualifying countries who may subsequently seek access to the USRAP for verification by the U.S. government.

Methodology: The collection of this information currently involves the limited use of electronic techniques. Anchor parents (respondents) in the United States will work closely with a resettlement agency during the completion of the AOR to ensure that the information is accurate. Anchor parents may visit any resettlement agency to complete an AOR. Sometimes anchors (respondents) do not have strong English-language skills and benefit from having a face-to-face meeting with resettlement agency staff. The collection instrument (DS-7699) will be available electronically and responses will be completed electronically. Completed AORs will be printed out for ink signature by the respondents as well. The electronic copy will be submitted electronically to the Refugee Processing Center (RPC) for downloading into the Worldwide Refugee Admission Processing System (WRAPS), with the signed paper copy remaining with PRM's Resettlement and Placement Agency partners. Within the next three years, however, it is anticipated that AORs will be submitted electronically only, with electronic signatures, by the resettlement agency to the RPC.

Dated: October 29, 2014.
Simon Henshaw
PDAS, Bureau of Population, Refugees and Migration, Department of State.

[FR Doc. 2014-27040 Filed 11-13-14; 8:45 am]

BILLING CODE 4710-33-P